SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: December 1-31, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above:

Grandfathering Registration Under 18 CFR part 806, subpart E:

1. First Investors General, Inc.—Cool Creek Golf Club, GF Certificate No. GF-202012136, Hellam Township, York County, Pa.; Kreutz Creek; Issue Date: December 4, 2020.

2. Jersey Shore Area Joint Water Authority—Public Water Supply System, GF Certificate No. GF-202012137, Pine Creek Township, Clinton County, Pa.; Pine Creek Well 1; Issue Date: December 4, 2020.

3. Lycoming County Recreation Authority—White Deer Golf Courses, GF Certificate No. GF-202012138, Brady Township, Lycoming County, Pa.; Well 2 and Irrigation Pond; Issue Date: December 11, 2020.

4. South Middleton Township Municipal Authority—Public Water Supply System, GF Certificate No. GF-202012139, South Middleton Township, Cumberland County, Pa.; Wells 1 and 2; Issue Date: December 14, 2020.

5. Beech Creek Borough Authority—Public Water Supply System, GF Certificate No. GF-202012140, Beech Creek Borough, Clinton County, Pa.; Well 1; Issue Date: December 21, 2020.

6. Borough of Lititz—Public Water Supply System, GF Certificate No. GF-202012141, Lititz Borough, Lancaster County, Pa.; Wells 1, 2, 3, 4, 5, and 6; Issue Date: December 21, 2020.

7. Arendtsville Municipal Authority—Public Water Supply System, GF Certificate No. GF-202012142, Arendtsville Borough and Menallen Township, Adams County, Pa.; Wells 1 and 2; Issue Date: December 21, 2020.

8. Elmira Water Board, GF Certificate No. GF-202012143, City of Elmira, Town of Elmira, Town of Southport, and Town of Horseheads, Chemung County, N.Y.; Chemung River, Hoffman Reservoir, Hudson Street Wellfield (Wells 1A and 2), and Sullivan Street Wellfield (Wells 1 and 2); Issue Date: December 22, 2020.

9. Lake Meade Municipal Authority—Public Water Supply System, GF Certificate No. GF-202012144, Reading Township, Adams County, Pa.; Wells 1 and 2; Issue Date: December 30, 2020.

10. Village of Painted Post—Public Water Supply System, GF Certificate No. GF-202012145, Village of Painted Post, Steuben County, N.Y.; Wells 2, 3, and 4; Issue Date: December 30, 2020.

11. Walden Oaks Country Club, Inc., GF Certificate No. GF-202012146, Town of Cortlandville, Cortland County, N.Y.; Spring-fed Irrigation Ponds; Issue Date: December 30, 2020.

Authority: Pub. L. 91-575, 84 Stat. 1509 et seq., 18 CFR parts 806 and 808.

Dated: January 6, 2021.
Jason E. Oyler,
General Counsel and Secretary to the Commission.

[FR Doc. 2021-00313 Filed 1-8-21; 8:45 am]

BILLING CODE 7040-01-P